ENVIRONMENTAL PROTECTION AGENCY

40 CFR Part 711

[EPA-HQ-OPPT-2016-0597; FRL-9968-94; RIN 2070-AK31]

Chemical Data Reporting; Requirements for Inorganic Byproduct Chemical Substances; Notice of Public Meeting; Cancellation and Public Input Opportunity

AGENCY: Environmental Protection Agency (EPA).

ACTION: Rulemaking committee meeting; Cancellation of public meeting.

SUMMARY: EPA published a document in the Federal Register of August 18, 2017 (82 FR 39402) concerning meetings of the Negotiated Rulemaking Committee (Committee). This document cancels the meeting scheduled for October 25-26, 2017. The Committee decided at the September 13-14, 2017, meeting that it could not reach consensus, has concluded its discussions, and that the fourth meeting, scheduled for October 25-26, 2017, is not needed. Though the Committee has concluded its discussions, EPA is providing an opportunity for the public to offer input about approaches that would reduce burden associated with the reporting of inorganic byproducts while maintaining the Agency's ability to receive the information it needs to understand exposure. The docket established for the negotiated rulemaking public meetings will be open to receive public input for 60 days following publication of this document.

DATES: Comments must be received on or before December 11, 2017.

ADDRESSES: Submit your comments, identified by docket identification (ID) number EPA-HQ-OPPT-2016-0597, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Any member of the public wishing to obtain information concerning the cancellation of this meeting may contact Jonah Richmond, Designated Federal Officer (DFO), Conflict Prevention and Resolution Center, Office of General Counsel, 1200 Pennsylvania Ave. NW., Washington, DC 20460-0001; telephone number: (202) 564-0210; email address: Richmond.jonah@epa.gov. General information about the Committee, as well as any updates concerning the information included in this document, may be found at https://www.epa.gov/chemical-data-reporting/negotiated-rulemaking-committee-chemical-data-reporting-requirements.

For technical information contact: Susan Sharkey, Chemical Control Division (7405M), Office of Pollution Prevention and Toxics, Environmental Protection Agency, 1200 Pennsylvania Ave. NW., Washington, DC 20460-0001; telephone number: (202) 564-8789; email address: sharkey.susan@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

You may be potentially affected by this action if you manufacture (including manufacture as a byproduct chemical substance and including import) chemical substances listed on the Toxic Substances Control Act (TSCA) Inventory. The following list of North American Industrial Classification System (NAICS) codes are not intended to be exhaustive, but rather provides a guide to help readers determine whether this action may apply to them:

1. Chemical manufacturers and importers (NAICS codes 325 and 324110; e.g., chemical manufacturing and processing and petroleum refineries).

2. Chemical users and processors who may manufacture a byproduct chemical substance (NAICS codes 22, 322, 331, and 3344; e.g., utilities, paper manufacturing, primary metal manufacturing, and semiconductor and other electronic component manufacturing).

If you have any questions regarding the applicability of this action to a particular entity, consult the technical person listed under FOR FURTHER INFORMATION CONTACT.

B. What should I consider as I prepare my comments for EPA?

1. Request for Input. Though the Committee has concluded its discussions and will not reconvene, EPA encourages public input on ways to decrease the burden associated with the reporting of inorganic byproducts while maintaining the Agency's ability to receive the information it needs to understand exposure. EPA is opening for 60 days the docket identified in this document to receive this public input.

2. Submitting CBI. Do not submit this information to EPA through http://www.regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

C. How can I get copies of this document and other related information?

The docket for this action, identified by docket identification (ID) number EPA-HQ-OPPT-2016-0597, is available at http://www.regulations.gov or at the Office of Pollution Prevention and Toxics Docket (OPPT Docket), Environmental Protection Agency Docket Center (EPA/DC), West William Jefferson Clinton Bldg., Rm. 3334, 1301 Constitution Ave. NW., Washington, DC. The Public Reading Room is open from 8:30 a.m. to 4:30 p.m., Monday through Friday, excluding legal holidays. The telephone number for the Public Reading Room is (202) 566-1744, and the telephone number for the OPPT Docket is (202) 566-0280. Please review the visitor instructions and additional information about the docket available at http://www.epa.gov/dockets.

II. Background

EPA is giving notice that the Agency is cancelling the remaining scheduled meeting of the Negotiated Rulemaking Committee, and no further meetings are planned. The objective of this Committee was to negotiate toward consensus on proposed regulatory language limiting chemical data reporting requirements, under TSCA section 8(a), for manufacturers of any inorganic byproduct chemical substances when such byproduct chemical substances are subsequently recycled, reused, or reprocessed. This meeting is cancelled because the Committee determined that it was not able to reach consensus on regulatory approaches and has concluded its discussions. This Negotiated Rulemaking process was required by TSCA section 8(a)(6), as amended by the Frank R. Lautenberg Chemical Safety for the 21st Century Act (Lautenberg Act).

This Committee was a statutory advisory committee under the Federal Advisory Committee Act, 5 U.S.C. App. 2 § 9(a)(1). In accordance with section 9(c) of the Federal Advisory Committee Act, 5 U.S.C. App. I § 9(c), EPA prepared a charter for the establishment of the Negotiated Rulemaking Committee. Copies of the Committee's charter were filed with the appropriate congressional committees and the Library of Congress. The Committee met on June 8 and 9, 2017 (82 FR 25790) (FRL-9961-92); August 16 and 17, 2017 (82 FR 25790); and September 13 and 14, 2017 (82 FR 39402) (FRL-9965-96). The Committee's charter and those meetings' agendas and materials are available in the docket supporting this activity (EPA-HQ-OPPT-2016-0597) and online at https://www.epa.gov/chemical-data-reporting/negotiated-rulemaking-committee-chemical-data-reporting-requirements.

The Committee, established on June 5, 2017, had an objective to negotiate a proposed rule that would limit chemical data reporting requirements under section 8(a) of TSCA, as amended by the Lautenberg Act, for manufacturers of any inorganic byproduct chemical substances when such byproduct chemical substances are subsequently recycled, reused, or reprocessed. The purpose of the Committee was to conduct discussions in a good faith attempt to reach consensus on proposed regulatory language. This negotiation process was required by section 8(a)(6) of TSCA.

Authority: 15 U.S.C. 2601 et seq.

Dated: October 4, 2017.
Nancy B. Beck,
Deputy Assistant Administrator, Office of Chemical Safety and Pollution Prevention.

[FR Doc. 2017-22113 Filed 10-11-17; 8:45 am]

BILLING CODE 6560-50-P